DEPARTMENT OF JUSTICE

Drug Enforcement Administration

[Docket No. DEA-378]

Controlled Substances: Adjustment to the Established 2014 Aggregate Production Quota for Marijuana

AGENCY: Drug Enforcement Administration, Department of Justice.

ACTION: Notice.

SUMMARY: This notice addresses a comment received as a result of a notice with request for comments published May 5, 2014, adjusting the established 2014 aggregate production quota for marijuana, a schedule I controlled substance under the Controlled Substances Act.

DATES: Effective August 26, 2014.

FOR FURTHER INFORMATION CONTACT: Imelda L. Paredes, Office of Diversion Control, Drug Enforcement Administration; Mailing Address: 8701 Morrissette Drive, Springfield, Virginia 22152, Telephone: (202) 598-6812.

SUPPLEMENTARY INFORMATION:

Legal Authority

The Drug Enforcement Administration (DEA) implements and enforces titles II and III of the Comprehensive Drug Abuse Prevention and Control Act of 1970, as amended. Titles II and III are referred to as the “Controlled Substances Act” and the “Controlled Substances Import and Export Act,” respectively, and are collectively referred to as the “Controlled Substances Act” or the “CSA” for the purpose of this action. 21 U.S.C. 801-971. The DEA publishes the implementing regulations for these statutes in title 21 of the Code of Federal Regulations (CFR), parts 1300 to 1321. The CSA and its implementing regulations are designed to prevent, detect, and eliminate the diversion of controlled substances and listed chemicals into the illicit market while providing for the legitimate medical, scientific, research, and industrial needs of the United States. Controlled substances have the potential for abuse and dependence and are controlled to protect the public health and safety.

Section 306 of the CSA (21 U.S.C. 826) requires the Attorney General to establish aggregate production quotas for each basic class of controlled substance listed in schedules I and II each year. The Attorney General has delegated this authority under 21 U.S.C. 826 to the Administrator of the DEA, 28 CFR 0.100.

Background

The DEA established the initial 2014 aggregate production quotas and assessments for annual need on September 9, 2013 (78 FR 55099). The notice stipulated that, as provided for in 21 CFR 1303.13, all aggregate production quotas and assessments for annual need are subject to adjustment. On May 5, 2014, a notice titled, “Controlled Substances: Adjustment to the Established 2014 Aggregate Production Quota for Marijuana,” was published in the Federal Register (79 FR 55099). That notice adjusted the established 2014 aggregate production quota for marijuana for reasons stated therein. All interested persons were invited to comment on or object to the adjusted 2014 aggregate production quota for marijuana on or before June 4, 2014.

Comments Received

The DEA received one comment on the notice with request for comments. The commenter supported the adjusted 2014 aggregate production quota for marijuana. The DEA appreciates the support for this adjusted 2014 aggregate production quota for marijuana which will provide for the estimated scientific, research, and industrial needs of the United States.

Determination for Adjusting the Established 2014 Aggregate Production Quota for Marijuana

The DEA has taken into consideration the one comment received during the 30-day period and the Administrator has determined, pursuant to Section 306 of the CSA (21 U.S.C. 826), based on all of the above, and for the reasons stated in the May 5, 2014, notice, that the adjusted established 2014 aggregate production quota for marijuana to be manufactured in the United States in 2014 to provide for the estimated scientific, research, and industrial needs of the United States, and the establishment and maintenance of reserve stocks, expressed in grams of anhydrous acid or base, shall remain as follows:

Basic class-schedule I | Previously established 2014 quota | Adjusted 2014 quota
Marijuana | 21,000 g | 650,000 g

Dated: August 20, 2014.
Michele M. Leonhart,
Administrator.

[FR Doc. 2014-20317 Filed 8-25-14; 8:45 am]

BILLING CODE 4410-09-P